OFFICE OF PERSONNEL MANAGEMENT

5 CFR Part 532

RIN 3206-AM32

Prevailing Rate Systems; Redefinition of the Madison, Wisconsin, and Southwestern Wisconsin Appropriated Fund Federal Wage System Wage Areas

AGENCY: U.S. Office of Personnel Management.

ACTION: Final rule.

SUMMARY: The U.S. Office of Personnel Management is issuing a final rule to redefine the geographic boundaries of the Madison, Wisconsin, and Southwestern Wisconsin appropriated fund Federal Wage System (FWS) wage areas. The final rule redefines Adams and Waushara Counties, WI, from the Southwestern Wisconsin wage area to the Madison wage area. These changes are based on consensus recommendations of the Federal Prevailing Rate Advisory Committee to best match the above counties to a nearby FWS survey area.

DATES: This regulation is effective on July 5, 2011.

FOR FURTHER INFORMATION CONTACT: Madeline Gonzalez, (202) 606-2838; e-mail pay-leave-policy@opm.gov; or FAX: (202) 606-4264.

SUPPLEMENTARY INFORMATION: On November 18, 2010, the U.S. Office of Personnel Management (OPM) issued a proposed rule (75 FR 70616) to redefine Adams and Waushara Counties, WI, from the Southwestern Wisconsin wage area to the Madison, WI, wage area. These changes are based on consensus recommendations of the Federal Prevailing Rate Advisory Committee to best match the above counties to a nearby FWS survey area. The proposed rule had a 30-day comment period during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Madison, WI, and Southwestern Wisconsin wage areas to read as follows:

Appendix C to Subpart B of Part 532—Appropriated Fund Wage and Survey Areas

* * * * *

Wisconsin

Madison

Survey Area

Wisconsin:

Dane

Area of Application. Survey area plus:

Wisconsin:

Adams

Columbia

Dodge

Grant

Green

Green Lake

Iowa

Jefferson

Lafayette

Marquette

Rock

Sauk

Waushara

* * * * *

Southwestern Wisconsin

Survey Area

Wisconsin:

Chippewa

Eau Claire

La Crosse

Monroe

Trempealeau

Area of Application. Survey area plus:

Wisconsin:

Barron

Buffalo

Clark

Crawford

Dunn

Florence

Forest

Jackson

Juneau

Langlade

Lincoln

Marathon

Marinette

Menominee

Oconto

Oneida

Pepin

Portage

Price

Richland

Rusk

Shawano

Taylor

Vernon

Vilas

Waupaca

Wood

Minnesota:

Fillmore

Houston

Wabasha

Winona

* * * * *

Dated: February 3, 2011.

[FR Doc. 2011-13700 Filed 6-1-11; 8:45 am]

BILLING CODE 6325-39-P